DEPARTMENT OF COMMERCE

National Oceanic and Atmospheric Administration

[RTID 0648-XA235]

Marine Mammals; File No. 23779

AGENCY: National Marine Fisheries Service (NMFS), National Oceanic and Atmospheric Administration (NOAA), Commerce.

ACTION: Notice; receipt of application.

SUMMARY: Notice is hereby given that Allyson Hindle, Ph.D., University of Nevada Las Vegas, 4505 S Maryland Parkway, MS 4004, Las Vegas, NV 89154, has applied in due form for a permit to receive, import, and export parts from marine mammals for scientific research purposes.

DATES: Written, telefaxed, or email comments must be received on or before July 20, 2020.

ADDRESSES: These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. 23779 in the subject line of the email comment.

Those individuals requesting a public hearing should submit a written request to the Chief, Permits and Conservation Division at the address listed above. The request should set forth the specific reasons why a hearing on this application would be appropriate.

FOR FURTHER INFORMATION CONTACT: Jennifer Skidmore or Shasta McClenahan, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222 through 226), and the Fur Seal Act of 1966, as amended (16 U.S.C. 1151 et seq.).

The applicant proposes to receive, import, and export marine mammal parts for comparative research on the physiology and other biological aspects of marine mammals. Unlimited samples from up to 100 individual cetaceans and 100 individual pinnipeds (excluding walrus) are requested to be received, imported, or exported annually. These samples may be received from U.S. based research, legal subsistence hunts, incidental fisheries takes, or during routine husbandry/health assessments of curated animals. Samples may also be imported from international collaborators that were originally collected as research samples, curated animals, animal killed during subsistence hunts, animals killed incidental to fishery operations, or dead stranded animals. No live animal takes are requested. The applicant has requested a 5-year permit.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: June 11, 2020.
Julia Marie Harrison,
Chief, Permits and Conservation Division, Office of Protected Resources, National Marine Fisheries Service.

[FR Doc. 2020-13105 Filed 6-17-20; 8:45 am]

BILLING CODE 3510-22-P